DEPARTMENT OF THE TREASURY

Submission for OMB Review; Comment Request

June 24, 2014.

The Department of the Treasury will submit the following information collection requests to the Office of Management and Budget (OMB) for review and clearance in accordance with the Paperwork Reduction Act of 1995, Public Law 104-13, on or after the date of publication of this notice.

DATES: Comments should be received on or before July 30, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Alcohol and Tobacco Tax and Trade Bureau (TTB)

OMB Number: 1513-0017.

Type of Review: Extension without change of a currently approved collection.

Title: Drawback on Beer Exported.

Form: TTB F 5130.6.

Abstract: When taxpaid beer is removed from a brewery and ultimately exported, the brewer exporting the beer is eligible for a drawback (refund) of the Federal excise taxes paid. By completing form TTB F 5130.6 and submitting documentation of exportation, the brewer may receive a refund of the taxes paid.

Affected Public: Businesses or other for-profit organizations.

Estimated Annual Burden Hours: 5,000.

OMB Number: 1513-0032.

Type of Review: Revision of a currently approved collection.

Title: Inventory—Manufacturer of Tobacco Products or Processed Tobacco.

Form: TTB F 5210.9.

Abstract: TTB F 5210.9 is used by manufacturers of tobacco products or processed tobacco to report the beginning and ending inventories of tobacco products and processed tobacco and at other times required by the TTB regulations. The information reported on this form is used by TTB to determine tax liability and compliance with regulations, and for protection of the revenue.

Affected Public: Businesses or other for-profit organizations.

Estimated Annual Burden Hours: 500.

OMB Number: 1513-0033.

Type of Review: Revision of a currently approved collection.

Title: Report—Manufacturer of Tobacco Products or Cigarette Papers and Tubes; Report—Manufacturer of Processed Tobacco.

Form: TTB F 5210.5, TTB F 5250.1.

Abstract: Manufacturers of tobacco products and cigarette papers and tubes use the TTB F 5210.5 to report on the taxable articles manufactured, received, and removed per month. Manufacturers of processed tobacco use TTB F 5250.1 to account for all processed tobacco manufactured, received, and removed per month. TTB uses this information to ensure that Federal excise taxes have been properly paid and that manufacturers have complied with applicable Federal laws and regulations.

Affected Public: Businesses or other for-profit organizations.

Estimated Annual Burden Hours: 6,000.

OMB Number: 1513-0034.

Type of Review: Revision of a currently approved collection.

Title: Schedule of Tobacco Products, Cigarette Papers, or Tubes Withdrawn from the Market.

Form: TTB F 5200.7.

Abstract: TTB F 5200.7 is used by persons who intend to withdraw tobacco products from the market and file a claim for credit, refund, or abatement of tax on those products for which Federal excise taxes have already been paid or determined. The industry member uses this form to describe the products that are to be withdrawn from the market. Through the use of this form, the industry member notifies TTB when a withdrawal or destruction is to take place, and TTB may elect to supervise the withdrawal or destruction.

Affected Public: Businesses or other for-profit organizations.

Estimated Annual Burden Hours: 2,250.

OMB Number: 1513-0062.

Type of Review: Extension without change of a currently approved collection.

Title: Usual and Customary Business Records Relating to Denatured Spirits—TTB REC 5150/1.

Abstract: Denatured spirits are used for nonbeverage industrial purposes in the manufacture of personal and household products. These records are maintained at the premises of the regulated individual and are routinely inspected by TTB personnel during field tax compliance examinations. These examinations are necessary to verify that all specially denatured spirits can be accounted for and are being used only for purposes authorized by laws and regulations. By ensuring that spirits have not been diverted to beverage use, tax revenue and public safety are protected. No additional recordkeeping is imposed on the respondent, as this information collection requires the maintenance only of the usual and customary business records of the regulated individual.

Affected Public: Businesses or other for-profit organizations; State, local, and tribal governments.

Estimated Annual Burden Hours: 1.

OMB Number: 1513-0113.

Type of Review: Extension without change of a currently approved collection.

Title: Special Tax “Renewal” Registration and Return/Special Tax Location Registration Listing.

Form: TTB F 5630.5R.

Abstract: Chapter 52 of the Internal Revenue Code of 1986, as amended (IRC), imposes an occupational tax on persons engaging in certain tobacco businesses. Section 5731 of the IRC (26 U.S.C. 5731) requires persons to register and/or pay a special occupational tax before conducting business in certain tobacco categories. TTB F 5630.5R is used both to compute and report the tax and as an application for registry as required by statute. TTB F 5630.5R is computer-generated by TTB with known taxpayer identifying information (e.g., name, trade name, address, employer identification number, etc.) along with tax computations reflecting tax class(es), number of business locations, tax rate(s), and total tax due. The taxpayer corrects or supplies any inaccurate or incomplete information.

Affected Public: Businesses or other for-profit organizations.

Estimated Annual Burden Hours: 100.

OMB Number: 1513-0130.

Type of Review: Revision of a currently approved collection.

Title: Report of Removal, Transfer, or Sale of Processed Tobacco.

Form: TTB F 5250.2.

Abstract: Unregulated transfers or sales of processed tobacco to persons who do not hold TTB permits could lead to processed tobacco falling into the hands of persons who would be unknown and unaccountable to TTB, including illegal manufacturers. In order to better regulate processed tobacco and prevent diversion, TTB requires the filing of a report, TTB F 5250.2, covering all such transfers or sales. This report is used to protect the revenue.

Affected Public: Businesses or other for-profit organizations.

Estimated Annual Burden Hours: 2,400.

Brenda Simms,
Treasury PRA Clearance Officer.

[FR Doc. 2014-15134 Filed 6-27-14; 8:45 am]

BILLING CODE 4810-31-P